DEPARTMENT OF ENERGY

Federal Energy Regulatory Commission

Combined Notice of Filings #1

Take notice that the Commission received the following electric corporate filings:

Docket Numbers: EC25-64-000.

Applicants: BGTF II Adonis Aggregator LLC, NGV NGR Acquisition Co, LLC on behalf of its Public Utility Subsidiaries.

Description: Joint Application for Authorization Under Section 203 of the Federal Power Act of NGV NGR Acquisition Co, LLC, et al.

Filed Date: 3/14/25.

Accession Number: 20250314-5356.

Comment Date: 5 p.m. ET 4/4/25.

Take notice that the Commission received the following exempt wholesale generator filings:

Docket Numbers: EG25-234-000.

Applicants: VESI 37 LLC.

Description: VESI 37 LLC submits Notice of Self-Certification of Exempt Wholesale Generator Status.

Filed Date: 3/17/25.

Accession Number: 20250317-5245.

Comment Date: 5 p.m. ET 4/7/25.

Docket Numbers: EG25-235-000.

Applicants: Steele Flats Energy Storage, LLC.

Description: Steele Flats Energy Storage, LLC submits Notice of Self-Certification of Exempt Wholesale Generator Status.

Filed Date: 3/18/25.

Accession Number: 20250318-5068.

Comment Date: 5 p.m. ET 4/8/25.

Docket Numbers: EG25-236-000.

Applicants: Northern Divide Energy Storage, LLC.

Description: Northern Divide Energy Storage, LLC submits Notice of Self-Certification of Exempt Wholesale Generator Status.

Filed Date: 3/18/25.

Accession Number: 20250318-5143.

Comment Date: 5 p.m. ET 4/8/25.

Take notice that the Commission received the following electric rate filings:

Docket Numbers: ER25-1145-000.

Applicants: NorthWestern Corporation.

Description: Annual Filing of Post-Employment Benefits Other than Pensions for 2024 of NorthWestern Corporation.

Filed Date: 1/31/25.

Accession Number: 20250131-5509.

Comment Date: 5 p.m. ET 4/1/25.

Docket Numbers: ER25-1649-000.

Applicants: Central 40, LLC.

Description: § 205(d) Rate Filing: Central 40, LLC Change in Status to be effective 3/18/2025.

Filed Date: 3/17/25.

Accession Number: 20250317-5179.

Comment Date: 5 p.m. ET 4/7/25.

Docket Numbers: ER25-1650-000.

Applicants: Tulare Solar Center, LLC.

Description: § 205(d) Rate Filing: Tulare Solar Center, LLC Change in Status to be effective 3/18/2025.

Filed Date: 3/17/25.

Accession Number: 20250317-5182.

Comment Date: 5 p.m. ET 4/7/25.

Docket Numbers: ER25-1651-000.

Applicants: Pioneer Solar (CO), LLC.

Description: § 205(d) Rate Filing: Pioneer Solar (CO), LLC Change in Status to be effective 3/18/2025.

Filed Date: 3/17/25.

Accession Number: 20250317-5183.

Comment Date: 5 p.m. ET 4/7/25.

Docket Numbers: ER25-1673-000.

Applicants: PJM Interconnection, L.L.C.

Description: § 205(d) Rate Filing: Original GIA & CSA, SA Nos. 7594 & 7595; Project Identifier No. AF1-118 to be effective 2/13/2025.

Filed Date: 3/17/25.

Accession Number: 20250317-5205.

Comment Date: 5 p.m. ET 4/7/25.

Docket Numbers: ER25-1674-000.

Applicants: Midcontinent Independent System Operator, Inc.

Description: § 205(d) Rate Filing: 2025-03-17_Att X—Expedited Resource Addition Study (ERAS) to be effective 5/17/2025.

Filed Date: 3/17/25.

Accession Number: 20250317-5212.

Comment Date: 5 p.m. ET 4/7/25.

Docket Numbers: ER25-1683-000.

Applicants: Southwest Power Pool, Inc.

Description: § 205(d) Rate Filing: 1628R28 Western Farmers Electric Cooperative NITSA NOAs to be effective 3/1/2025.

Filed Date: 3/18/25.

Accession Number: 20250318-5024.

Comment Date: 5 p.m. ET 4/8/25.

Docket Numbers: ER25-1684-000.

Applicants: Southwest Power Pool, Inc.

Description: § 205(d) Rate Filing: 2155R2 Sunflower Electric Power Corporation NITSA and NOA to be effective 3/1/2025.

Filed Date: 3/18/25.

Accession Number: 20250318-5034.

Comment Date: 5 p.m. ET 4/8/25.

Docket Numbers: ER25-1685-000.

Applicants: Southwest Power Pool, Inc.

Description: § 205(d) Rate Filing: 1266R18 Kansas Municipal Energy Agency NITSA and NOA) to be effective 3/1/2025.

Filed Date: 3/18/25.

Accession Number: 20250318-5041.

Comment Date: 5 p.m. ET 4/8/25.

Docket Numbers: ER25-1686-000.

Applicants: Southwest Power Pool, Inc.

Description: § 205(d) Rate Filing: 3552R7 TEA and MEAN Meter Agent Agreement to be effective 4/1/2025.

Filed Date: 3/18/25.

Accession Number: 20250318-5056.

Comment Date: 5 p.m. ET 4/8/25.

Docket Numbers: ER25-1687-000.

Applicants: AEP Texas Inc.

Description: § 205(d) Rate Filing: AEPTX-Citrus Flatts Energy Center 1st Amended GIA to be effective 3/6/2025.

Filed Date: 3/18/25.

Accession Number: 20250318-5063.

Comment Date: 5 p.m. ET 4/8/25.

Docket Numbers: ER25-1688-000.

Applicants: AEP Texas Inc.

Description: § 205(d) Rate Filing: AEPTX-BT Cantwell 5th Amended Generation Interconnection Agreement to be effective 3/1/2025.

Filed Date: 3/18/25.

Accession Number: 20250318-5065.

Comment Date: 5 p.m. ET 4/8/25.

Docket Numbers: ER25-1689-000.

Applicants: VIOTAS Texas LLC.

Description: § 205(d) Rate Filing: Initial Application to be effective 3/28/2025.

Filed Date: 3/18/25.

Accession Number: 20250318-5073.

Comment Date: 5 p.m. ET 4/8/25.

Docket Numbers: ER25-1690-000.

Applicants: Southwest Power Pool, Inc.

Description: § 205(d) Rate Filing: Revisions to Att O to Clarify Script C4 High Priority Study Modification (RR545) to be effective 5/19/2025.

Filed Date: 3/18/25.

Accession Number: 20250318-5074.

Comment Date: 5 p.m. ET 4/8/25.

Docket Numbers: ER25-1691-000.

Applicants: American Transmission Systems, Incorporated.

Description: § 205(d) Rate Filing: ATSI submits one Engineering and Construction Agreement SA No. 6942 to be effective 5/19/2025.

Filed Date: 3/18/25.

Accession Number: 20250318-5084.

Comment Date: 5 p.m. ET 4/8/25.

Docket Numbers: ER25-1692-000.

Applicants: American Transmission Systems, Incorporated.

Description: § 205(d) Rate Filing: ATSI submits one Engineering and Construction Agreement SA No. 7265 to be effective 5/19/2025.

Filed Date: 3/18/25.

Accession Number: 20250318-5085.

Comment Date: 5 p.m. ET 4/8/25.

Docket Numbers: ER25-1693-000.

Applicants: American Transmission Systems, Incorporated.

Description: § 205(d) Rate Filing: ATSI submits one Engineering and Construction Agreement SA No. 7276 to be effective 5/19/2025.

Filed Date: 3/18/25.

Accession Number: 20250318-5086.

Comment Date: 5 p.m. ET 4/8/25.

Docket Numbers: ER25-1694-000.

Applicants: Arizona Public Service Company.

Description: § 205(d) Rate Filing: Service Agreement No. 431 to be effective 2/18/2025.

Filed Date: 3/18/25.

Accession Number: 20250318-5098.

Comment Date: 5 p.m. ET 4/8/25.

Docket Numbers: ER25-1696-000.

Applicants: Duke Energy Florida, LLC.

Description: § 205(d) Rate Filing: DEF-FMPA-FMPP DTA RS No. 467 to be effective 5/19/2025.

Filed Date: 3/18/25.

Accession Number: 20250318-5120.

Comment Date: 5 p.m. ET 4/8/25.

Docket Numbers: ER25-1698-000.

Applicants: Midcontinent Independent System Operator, Inc., Great River Energy.

Description: § 205(d) Rate Filing: Great River Energy submits tariff filing per 35.13(a)(2)(iii: 2025-03-18_GRE Request for Transmission Rate Incentives (LRTP 2.1) to be effective 5/18/2025.

Filed Date: 3/18/25.

Accession Number: 20250318-5131.

Comment Date: 5 p.m. ET 4/8/25.

Docket Numbers: ER25-1699-000.

Applicants: ISO New England Inc., The United Illuminating Company.

Description: § 205(d) Rate Filing: The United Illuminating Company submits tariff filing per 35.13(a)(2)(iii: UI; Revisions to Attachment F to Correct Minor Errors in Formula Rate Worksheets to be effective 3/19/2025.

Filed Date: 3/18/25.

Accession Number: 20250318-5132.

Comment Date: 5 p.m. ET 4/8/25.

Docket Numbers: TX25-3-000.

Applicants: Chula Vista Energy Center 2, LLC.

Description: Application for Order Directing Transmission Service and Interconnection of Facilities of Chula Vista Energy Center 2, LLC.

Filed Date: 3/13/25.

Accession Number: 20250313-5248.

Comment Date: 5 p.m. ET 4/3/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 18, 2025.
Carlos D. Clay,
Deputy Secretary.

[FR Doc. 2025-04965 Filed 3-24-25; 8:45 am]

BILLING CODE 6717-01-P